DEPARTMENT OF HEALTH AND HUMAN SERVICES

Centers for Disease Control and Prevention

[Docket CDC-2016-0001; NIOSH-260-A]

Draft Current Intelligence Bulletin: Health Effects of Occupational Exposure to Silver Nanomaterials; Notice of Public Meeting; Availability of Document for Comment

AGENCY: National Institute for Occupational Safety and Health (NIOSH) of the Centers for Disease Control and Prevention (CDC), Department of Health and Human Services (HHS).

ACTION: Notice of public meeting and availability of draft document for public comment.

SUMMARY: On December 19, 2012, the National Institute for Occupational Safety and Health, Centers for Disease Control and Prevention announced in the Federal Register http://www.gpo.gov/fdsys/pkg/FR-2012-12-19/pdf/2012-30515.pdf plans to evaluate the scientific data on silver nanomaterials and to issue its findings on the potential health risks. A draft document entitled, Health Effects of Occupational Exposure to Silver Nanomaterials, has been developed which contains a review and assessment of the currently available scientific literature on the toxicological effects of exposure to silver nanoparticles in experimental animal and cellular systems, and on the occupational exposures to silver dust and fume and the associated health effects. An emphasis area of this review is evaluating the scientific evidence on the role of particle size on the toxicological effects of silver, including the evidence basis to evaluate the adequacy of the current NIOSH recommended exposure limit (REL) for silver (metal dust and soluble compounds, as Ag) [available at: http://www.cdc.gov/niosh/npg/npgd0557.html].

Recommendations are provided for the safe handling of silver nanoparticles, and research needs are proposed to fill important data gaps in the current scientific literature on the potential adverse health effects of occupational exposure to silver nanoparticles. NIOSH is seeking comments on the draft document and plans to have a public meeting to discuss the document. To view the notice and related materials, visit www.regulations.gov and enter CDC-2016-0001 in the field and click “Search.” This draft document does not have the force or effect of the law.

DATES: The public meeting will be held on March 23, 2016, 9:00 a.m.-3:00 p.m. Eastern Time, or after the last public commenter has spoken, whichever occurs first. Comments must be received on or before March 21, 2016.

ADDRESSES: The public meeting will be held at the NIOSH/CDC Robert A. Taft Laboratories, Auditorium, 1150 Tusculum Avenue, Cincinnati, Ohio 45226.

FOR FURTHER INFORMATION CONTACT: Charles Geraci, NIOSH, Education and Information Division, Nanotechnology Research Center, Robert A. Taft Laboratories, 1090 Tusculum Avenue, Cincinnati, OH 45226, (513) 533-8339 (not a toll free number).

SUPPLEMENTARY INFORMATION:

I. Background: To discuss and obtain comments on the draft document, “NIOSH Current Intelligence Bulletin: Health Effects of Occupational Exposure to Silver Nanomaterials”. Special emphasis will be placed on discussion of the following:

• Whether the health hazard identification, risk estimation, and discussion of health effects of silver and silver nanomaterials are a reasonable reflection of the current understanding of the scientific literature;

• Workplaces and occupations where exposure to silver and silver nanomaterials may occur; and studies on health effects associated with occupational exposure to silver dust and fume;

• Current strategies for controlling or preventing exposure to silver and silver nanomaterials (e.g., engineering controls, work practices, personal protective equipment);

• Current exposure measurement methods and challenges in measuring workplace exposures to silver nanomaterials; and

• Areas for future collaborative efforts (e.g., research, communication, development of exposure measurement and control strategies).

II. Public Meeting: NIOSH will hold a public meeting on the NIOSH Draft Current Intelligence Bulletin: Health Effects of Occupational Exposure to Silver Nanomaterials to allow commenters to provide oral comments on the draft document, to inform NIOSH about additional relevant data or information, and to ask questions on the draft document and NIOSH recommendations.

The forum will include scientists and representatives from various government agencies, industry, labor, and other stakeholders, and is open to the public. Attendance is limited only by the space available. The meeting room accommodates 100 people. The meeting will be open to limited number of participants through a conference call phone number and Webcast live on the Internet. Due to the limited spaces, notification of intent to attend the meeting must be made to the NIOSH Docket Office, at nioshdocket@cdc.gov, (513) 533-8611, or fax (513) 533-8285, no later than March 9, 2016. Priority for attendance will be given to those providing oral comments. Other requests to attend the meeting will then be accommodated on a first-come, first-served basis.

Registration is required. Because this meeting is being held at a Federal site, pre-registration is required on or before March 9, 2016 and a government-issued photo ID (driver's license, military ID or passport) will be required to obtain entrance to the facility. There will be an airport type security check. Non‐US citizens need to register by February 12, 2016 to allow sufficient time for mandatory facility security clearance procedures to be completed. Additional personal information will be required. This information will be transmitted to the CDC Security Office for approval. An email confirming registration will be sent from NIOSH for both in-person participation and audio conferencing participation.

Oral presentations will be limited to 15 minutes per presenter. If additional time becomes available, presenters will be notified. All requests to present should contain the name, address, telephone number, and relevant business affiliations of the presenter, topic of the presentation, and the approximate time requested for the presentation. An email confirming registration will be sent from the NIOSH Docket Office and will include details needed to participate. Oral comments given at the meeting will be recorded and included in the NIOSH Docket 260-A.

After reviewing the requests for presentations, NIOSH will notify the presenter that his/her presentation is scheduled. If a participant is not in attendance when his/her presentation is scheduled to begin, the remaining participants will be heard in order. After the last scheduled speaker is heard, participants who missed their assigned times may be allowed to speak, limited by time available.

Attendees who wish to speak but did not submit a request for the opportunity to make a presentation may be given this opportunity after the scheduled speakers are heard, at the discretion of the presiding officer and limited by time available.

You may submit comments, identified by CDC-2016-0001 and NIOSH 260-A, by either of the following methods:

• Federal eRulemaking Portal: www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2016-0001; NIOSH 260-A]. All relevant comments received will be posted without change to www.regulations.gov including any personal information provided. All information will be available for public examination and copying at the NIOSH Docket Office, 1150 Tusculum Avenue, Room 155, Cincinnati, Ohio 45226.

Non-U.S. Citizens: Because of CDC Security Regulations, any non-U.S. citizen wishing to attend this meeting must provide the following information in writing to the NIOSH Docket Officer at the address below no later than February 12, 2016.

Name:

Gender:

Date of Birth:

Place of Birth (city, province, state, country):

Citizenship:

Passport Number:

Date of Passport Issue:

Date of Passport Expiration:

Type of Visa:

U.S. Naturalization Number (if a naturalized citizen):

U.S. Naturalization Date (if a naturalized citizen):

Visitor's Organization:

Organization Address:

Organization Telephone Number:

Visitor's Position/Title within the Organization:

This information will be transmitted to the CDC Security Office for approval. Visitors will be notified as soon as approval has been obtained.

Public Review

The external review of the draft document has been (1) developed in accordance with OMB guidelines, (2) is consistent with NIOSH peer review practice, and (3) is meant to ensure that credible and appropriate science is reflected within the draft document.

Dated: January 14, 2016.
John Howard,
Director, National Institute for Occupational Safety and Health, Centers for Disease Control and Prevention.

[FR Doc. 2016-01112 Filed 1-20-16; 8:45 am]

BILLING CODE 4163-19-P